DEPARTMENT OF ENERGY

Federal Energy Regulatory Commission

[Docket No. EL03-123-000]

Richard Blumenthal, Attorney General of the State of Connecticut, The Connecticut Department of Public Utility Control v. NRG Power Marketing, Inc.; Notice of Clarification of Complaint

May 29, 2003.

Take notice that on May 22, 2003, Richard Blumenthal, Attorney General for the State of Connecticut (CTAG), and the Connecticut Department of Public Utility Control (CDPUC) (collectively, the Connecticut Representatives) tendered for filing with the Federal Energy Regulatory Commission (Commission) pursuant to Rule 206 of the Commission's Rules of Practice and Procedure, 18 CFR 385.206, a clarification of complaint. The Connecticut Representatives state that this filing supplements and incorporates by reference the complaint and motion for an emergency stay of NRG Power Marketing Inc.'s (NRG-PMI) threatened termination of its competitively bid wholesale power sale contract with the Connecticut Light and Power Company (CL&P) filed by the Connecticut Representatives on May 16, 2003.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the clarification of complaint and all comments, interventions or protests must be filed on or before the comment date below. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866)208-3676, or for TTY, contact (202)502-8659. The answer to the clarification of complaint, comments, protests and interventions may be filed electronically via the Internet in lieu of paper; see 18 CFR 385.2001(a)(1)(iii) and the instructions on the Commission's Web site under the “e-Filing” link. The Commission strongly encourages electronic filings.

Comment Date: June 6, 2003.

Editorial note: This document was received at the Office of the Federal Register June 18, 2003.

Magalie R. Salas,
Secretary.

[FR Doc. 03-15789 Filed 6-18-03; 4:00 pm]

BILLING CODE 6717-01-P